ENVIRONMENTAL PROTECTION AGENCY

[FRL-6862-1]

Regulatory Reinvention (XL) Pilot Projects

AGENCY: Environmental Protection Agency (EPA).

ACTION: Notice of Availability of Puget Sound Naval Shipyard Project XL Phase I Draft Final Project Agreement.

SUMMARY: EPA is requesting comments on the Phase I Draft Final Project Agreement (FPA) for Puget Sound Naval Shipyard (PSNS), Bremerton, Washington. The FPA is a voluntary agreement developed collaboratively by PSNS, the Washington State Department of Ecology (WDOE), and EPA. Project XL, announced in the Federal Register on May 23, 1995 (60 FR 27872), is intended to provide regulated entities with the opportunity to develop alternative strategies that will replace or modify specific regulatory or procedural requirements on the condition that the alternative strategies produce greater environmental benefits. PSNS is participating in EPA's Project XL under the auspices of Environmental Investment (ENVVEST). ENVVEST is the Department of Defense's program to participate in EPA's Project XL.

The Puget Sound Naval Shipyard proposes to carry out this project in two phases. The first phase is explained in this draft FPA. The Puget Sound Naval Shipyard proposes to study the Sinclair Inlet and its surrounding watershed to document its current health and the impacting sources. Research would be conducted through the use of sound ecological science and risk based management and employ techniques consistent with the Environmental Protection Agency Ecological Risk Assessment Guidelines. Key elements include development of a unified ambient monitoring program, comprehensive electronic database, risk based pollutant prioritization, and data to support the development of Total Maximum Daily Loads (TMDLs).

Regulatory flexibility is not being sought nor granted pursuant to this Phase I FPA. Rather, upon completion of the research in Phase, I, PSNS and revelant stakeholders may propose pilot projects to support obtaining regulatory flexibility in Phase II of the XL/ENVVEST project. These proposals would require addenda to the FPA. Draft versions of proposed addenda would be announced in future Federal Register notices for public comment.

The terms and conditions pertaining to this XL/ENVVEST pilot project are contained in the draft Phase I FPA, upon which EPA is requesting comment today. The draft FPA sets forth the intentions of EPA, PSNS, and the WDOE with regard to the implementation of the first phase of the project and the expected benefits. After review of the comments received during the public comment period and revision of the FPA, as appropriate, representatives of the EPA, the WDOE, and PSNS would sign the FPA.

DATES: The period for submission of public comments ends on September 14, 2000.

ADDRESSES: All comments on the proposed Final Project Agreement should be sent to: Ms. Sherri Walker, US EPA, Ariel Rios Building, Mail Code 1802, 1200 Pennsylvania Avenue, NW, Washington, D.C. 20460. Comments may also be faxed to Sherri Walker at (202) 260-3125. Comments will also be received via electronic mail sent to walker.sherri@epa.gov.

FOR FURTHER INFORMATION CONTACT: To obtain a copy of the Draft Final Project Agreement, contact: William Glasser, US EPA, Region 10, 1200 Sixth Avenue, Seattle, WA 98101 , or Sherri Walker, US EPA, Mail Code 1802, Ariel Rios Building, 1200 Pennsylvania Avenue, NW, Washington, DC 20460. The Draft FPA is also available at Puget Sound Naval Shipyard by contacting Ms. Diane Manning, PSNS Code 1160, 1400 Farragut Avenue, Bremerton, WA 98314-5001; (360) 476-7111 or email: manningd@psns.navy.mil. The FPA and related documents are also available via the Internet at the following location: http://www.epa.gov/ProjectXL. Additional information on Project XL, including documents referenced in this notice, other EPA policy documents related to Project XL, application information, and descriptions of existing XL projects and proposals, is available via the Internet at the website address listed above. Questions regarding any of these documents can be directed to William Glasser at (206) 553-7215 or Sherri Walker at (202) 260-4295. If you wish to be included on the PSNS mailing list regarding future meetings contact Ms. Diane Manning as listed above.

Dated: August 25, 2000.
Elizabeth A. Shaw,
Director, Office of Environmental Policy Innovation.

[FR Doc. 00-22380 Filed 8-30-00; 8:45 am]

BILLING CODE 6560-50-M